NATIONAL SCIENCE FOUNDATION

Notice of Permits Issued under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Polly Penhale, ACA Permit Officer, Office of Polar Programs, National Science Foundation, 2415 Eisenhower Avenue, Alexandria, VA 22314; 703-292-8030; email: ACApermits@nsf.gov.

SUPPLEMENTARY INFORMATION: On October 19, 2021, and October 20, 2021, the National Science Foundation published notices in the Federal Register of permit applications received. The permits were issued on November 18, 2021, and November 19, 2021, to:

1. Nikola Bajo, Grand Circle Corporation Permit No. 2022—015

2. Prash Karnik, Lindblad Expeditions Permit No. 2022—016

3. Dr. Heather Lynch Permit No. 2022—017

4. Dr. Heather Lynch Permit No. 2022—018

Erika N. Davis,
Program Specialist, Office of Polar Programs.

[FR Doc. 2021-25727 Filed 11-24-21; 8:45 am]

BILLING CODE 7555-01-P